DEPARTMENT OF LABOR

Employment and Training Administration

[TA-W-53,589]

Charmilles Technologies Manufacturing Corporation, a Division of Agie Charmilles Holding Corporation, Owosso, WI; Notice of Termination of Investigation

Pursuant to section 221 of the Trade Act of 1974, as amended, an investigation was initiated on November 19, 2003 in response to a petition filed by a company official on behalf of workers at the Charmilles Technologies Manufacturing Corporation, a division of Agie Charmilles Holding Corporation, Owosso, Wisconsin.

The petition is a copy of the petition filed on November 17, 2003 (TA-W-53,543), that is the subject of an ongoing investigation for which a determination has not yet been issued. Consequently, further investigation in this case would serve no purpose and the investigation is terminated.

Signed at Washington, DC this 24th day of November, 2003.
Linda G. Poole,
Certifying Officer, Division of Trade Adjustment Assistance.

[FR Doc. 03-31681 Filed 12-23-03; 8:45 am]

BILLING CODE 4510-30-P